DEPARTMENT OF HEALTH AND HUMAN SERVICES

Chronic Fatigue Syndrome Advisory Committee

AGENCY: Office of the Secretary, HHS.

ACTION: Notice of meeting.

SUMMARY: As stipulated by the Federal Advisory Committee Act, the U.S. Department of Health and Human Services is hereby giving notice that the Chronic Fatigue Syndrome Advisory Committee (CFSAC) will hold a meeting. The meeting will be open to the public.

DATES: The meeting will be held on Monday, March 22, 2004, from 9 a.m. to 5 p.m.

ADDRESS: Department of Health and Human Services, Hubert H. Humphrey Building, 200 Independence Avenue, SW., Room 800, Washington, DC 20201.

FOR FURTHER INFORMATION, CONTACT: Dr. Larry E. Fields, Executive Secretary, Chronic Fatigue Syndrome Advisory Committee, U.S. Department of Health and Human Services, Hubert H. Humphrey Building, 200 Independence Avenue, SW., Room 719H, Washington, DC 20201; (202) 690-7694.

SUPPLEMENTARY INFORMATION: CFSAC was established on September 5, 2002, to replace the Chronic Fatigue Syndrome Coordinating Committee. CFSAC was established to advise, consult with, and make recommendations to the Secretary, through the Assistant Secretary for Health, on a broad range of topics including (1) The current state of knowledge and research about the epidemiology and risk factors relating to chronic fatigue syndrome, and identifying potential opportunities in these areas; (2) current and proposed diagnosis and treatment methods for chronic fatigue syndrome; and (3) development and implementation of programs to inform the public, health care professionals, and the biomedical, academic, and research communities about chronic fatigue syndrome advances.

The tentative agenda for this meeting is as follows:

9 a.m. Chairperson: Call to Order, Roll Call, Introductions, Minutes of the December 8th, 2003, Meeting, Opening Remarks, Discussion.

9:20 a.m. Executive Secretary: Summary of Public Comments, Policy and Procedure, Communications (Web site, listserv), Discussion.

9:35 a.m. Invited Guest Speakers: Dr. J. Terrell Hoffeld: The Scientific Review Process, Scientific Review Administrator, NIH, Discussion.

10:30 a.m. Break.

10:45 a.m. Organizational Updates: Patricia D. Fero; Wisconsin CFS Association, Inc.; K. Kimberly Kenney; CFIDS Association of America; Jill McLaughlin; National CFIDS Foundation, Inc.

11:15 a.m. Ex Officio Members: Requested follow-ups, Status of Departmental CFS-directed Efforts, Discussion.

11:30 a.m. Public Comment (Part I).

12 noon Lunch Break.

1 p.m. Dr. Roberto Patarca: CFS Education: Healthcare Providers, General Public, Physical Therapists, Others, Discussion.

3 p.m. Break.

3:15 CFS Miscellaneous Matters.

4 p.m. Public Comment (Part 2).

4:30 p.m. Wrap Up, Action Steps, Timelines, including dates of remaining FY 2004 meetings.

5 p.m. Adjournment.

Public attendance at the meeting is limited to space available. Individuals must provide a photo ID for entry into the meeting. Individuals who plan to attend and need special assistance, such as sign language interpretation or other reasonable accommodations, should notify the designated contact person. Members of the public will have the opportunity to provide comments at the meeting. Pre-registration is required for public comment by March 15, 2004. Any individual who wishes to participate in the public comment session should call the telephone number listed in the contact information to register. Public comment will be limited to five minutes per speaker. Any members of the public who wish to have printed material distributed to CFSAC members should submit materials to the Executive Secretary, CFSAC, whose contact information is listed above prior to close of business March 15, 2004.

Dated: February 26, 2004.
Larry E. Fields,
Executive Secretary, Chronic Fatigue Syndrome Advisory Committee.

[FR Doc. 04-4794 Filed 3-3-04; 8:45 am]

BILLING CODE 4150-28-P